ENVIRONMENTAL PROTECTION AGENCY

40 CFR Part 81

[EPA-R07-OAR-2019-0190; FRL-9996-08-Region 7]

Approval of Missouri Air Quality Implementation Plans; Redesignation of the Missouri Portion of the St. Louis-St. Charles-Farmington, MO-IL 2012 PM2.5 Unclassifiable Area

AGENCY: Environmental Protection Agency (EPA).

ACTION: Final rule.

SUMMARY: The Environmental Protection Agency (EPA) is taking final action to approve a request from the Missouri Department of Natural Resources (MoDNR) to redesignate the Missouri portion of the St. Louis-St. Charles-Farmington, MO-IL fine particulate matter (PM2.5) unclassifiable area (“St. Louis area” or “area”) to unclassifiable/attainment for the 2012 annual fine particulate matter (PM2.5) National Ambient Air Quality Standard (NAAQS). The Missouri portion of the St. Louis area comprises of the City of St. Louis and the counties of Franklin, Jefferson, St. Charles, and St. Louis. The EPA now has sufficient data to determine that the St. Louis area is in attainment of the 2012 PM2.5 NAAQS. Therefore, EPA is approving the state's December 11, 2018 request to redesignate the area to unclassifiable/attainment for the 2012 PM2.5 NAAQS based upon valid, quality-assured, and certified ambient air monitoring data showing that the PM2.5 monitors in the area are in compliance with the 2012 PM2.5 NAAQS. The EPA will address the Illinois portion of the St. Louis area in a separate rulemaking action.

DATES: This final rule is effective on July 29, 2019.

ADDRESSES: EPA has established a docket for this action under Docket ID No. EPA-R07-OAR-2019-0190. All documents in the docket are listed on the https://www.regulations.gov website. Although listed in the index, some information is not publicly available, i.e., CBI or other information whose disclosure is restricted by statute. Certain other material, such as copyrighted material, is not placed on the internet and will be publicly available only in hard copy form. Publicly available docket materials are available through https://www.regulations.gov or please contact the person identified in the FOR FURTHER INFORMATION CONTACT section for additional information.

FOR FURTHER INFORMATION CONTACT: Lachala Kemp, Environmental Protection Agency, Region 7 Office, Air Quality Planning Branch, 11201 Renner Boulevard, Lenexa, Kansas 66219 at (913) 551-7214, or by email at kemp.lachala@epa.gov.

SUPPLEMENTARY INFORMATION: Throughout this document “we,” “us,” and “our” refer to EPA. This section provides additional information by addressing the following:

Table of Contents

I. What is being addressed in this document?

II. Have the requirements for approval of a SIP submission been met?

III. The EPA's Response to Comments

IV. What action is the EPA taking?

V. Statutory and Executive Order Reviews

I. What is being addressed in this document?

This final rulemaking takes final action on MoDNR's December 11, 2018, request to change the designation of the Missouri portion of the St. Louis area from unclassifiable to unclassifiable/attainment for the 2012 PM2.5 NAAQS, based on quality-assured and certified monitoring data for 2015-2017, and approves that the Missouri portion of the St. Louis area has met the requirements for redesignation under section 107(d)(3)(E) of the CAA. The background for this action is discussed in detail in the EPA's proposed rulemaking published in the Federal Register on May 16, 2019 (84 FR 22101).

II. Have the requirements for approval of a SIP submission been met?

The State's submission has met the public notice requirements for SIP submissions in accordance with 40 CFR 51.102. The MoDNR held a thirty-day comment period, and a public hearing on October 25, 2018. No oral or written comments were received. The submission satisfied the completeness criteria of 40 CFR part 51, appendix V.

III. The EPA's Response to Comments

The public comment period on EPA's proposed rule opened May 16, 2019, the date of its publication in the Federal Register and closed on June 17, 2019. During this period, the EPA received no comments on the action.

IV. What action is the EPA taking?

The EPA is approving the MoDNR's December 11, 2018, request to redesignate the Missouri portion of the St. Louis area from unclassifiable to unclassifiable/attainment for the 2012 primary annual PM2.5 NAAQS. This final rulemakng changes the legal designation, found at 40 CFR part 81, of the City of St. Louis and the counties of Franklin, Jefferson, St. Charles, and St. Louis from unclassifiable to unclassifiable/attainment for the 2012 primary annual PM2.5 NAAQS.

V. Statutory and Executive Order Reviews

Under the CAA, a redesignation of an area to unclassifiable/attainment is an action that affects the status of a geographical area and does not impose any additional regulatory requirements on sources beyond those imposed by state law. A redesignation to unclassifiable/attainment does not create any new requirements. Accordingly, this action merely takes final action to approve to redesignate an area to unclassifiable/attainment and does not impose additional requirements. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of the National Technology Transfer and Advancement Act (NTTA) because this rulemaking does not involve technical standards; and

• Does not provide EPA with the discretionary authority to address, as appropriate, disproportionate human health or environmental effects, using practicable and legally permissible methods, under Executive Order 12898 (59 FR 7629, February 16, 1994).

This action is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 81

Environmental protection, Air pollution control.

Dated: July 23, 2019.
James Gulliford,
Regional Administrator, Region 7.

For the reasons stated in the preamble, the EPA amends 40 CFR part 81 as set forth below:

PART 81—DESIGNATION OF AREAS FOR AIR QUALITY PLANNING PURPOSES

1. The authority citation for part 81 continues to read as follows:

Authority: 42 U.S.C. 7401, et seq.

Subpart C—Section 107 Attainment Status Designations

2. In § 81.326, the table entitled “Missouri—2012 Annual PM2.5 NAAQS” is amended by revising the entries for “St. Louis Area, MO-IL:” to read as follows:

§ 81.326 Missouri.

* * * * *

Missouri—2012 Annual PM2.5 NAAQS
[Primary]
Designated area ¹ | Designation: Date ² | Designation: Type | Classification: Date ² | Classification: Type
St. Louis Area, MO-IL:
Franklin County | 7/29/2019, [insert Federal Register citation] | Unclassifiable/Attainment
Jefferson County | 7/29/2019, [insert Federal Register citation] | Unclassifiable/Attainmant
St. Charles County | 7/29/2019, [insert Federal Register citation] | Unclassifiable/Attainmant
St. Louis County | 7/29/2019, [insert Federal Register citation] | Unclassifiable/Attainmant
St. Louis City | 7/29/2019, [insert Federal Register citation] | Unclassifiable/Attainmant
* * * * * * *
¹ Includes areas of Indian country located in each county or area, except as otherwise specified.
² This date is April 15, 2015, unless otherwise noted.

* * * * *

[FR Doc. 2019-16044 Filed 7-26-19; 8:45 am]

BILLING CODE 6560-50-P